NUCLEAR REGULATORY COMMISSION

[Docket No. 50-302; NRC-2013-0283]

Duke Energy Florida, Inc., Crystal River Unit 3 Nuclear Generating Plant Post-Shutdown Decommissioning Activities Report

AGENCY: Nuclear Regulatory Commission (NRC).

ACTION: Notice of receipt; availability; public meeting; and request for public comment.

SUMMARY: On December 5, 2013, the NRC received the Post-Shutdown Decommissioning Activities Report (PSDAR), dated December 2, 2013 (Agencywide Documents Access and Management System (ADAMS) Accession No. ML13340A009), for the Crystal River Unit 3 Nuclear Generating Plant (CR-3). The PSDAR provides an overview of Duke Energy Florida, Inc.'s (DEF's, the licensee's) proposed decommissioning activities, schedule, and costs for CR-3. The NRC will hold a public meeting to discuss the PSDAR and receive comments.

DATES: Submit comments by March 5, 2014. Comments after this date will be considered if it is practical to do so, but the NRC is able to ensure consideration only for comments received before this date.

ADDRESSES: You may submit comments by any of the following methods (unless this document describes a different method for submitting comments on a specific subject):

• NRC Public Meeting: The NRC will conduct a public meeting to discuss and accept comments on the CR-3 PSDAR on Thursday, January 16, 2014, from 7 p.m. until 9 p.m., EST, at the Crystal River Nuclear Plant Training Center/Emergency Operations Facility, Room 150, 8200 West Venable Street, Crystal River, FL 34429. The NRC requests that comments that are not addressed during the meeting be submitted in writing.

• Federal Rulemaking Web site: Go to http://www.regulations.gov and search for Docket ID NRC-2013-0283. Address questions about NRC dockets to Carol Gallagher; telephone: 301-287-3422; email: Carol.Gallagher@nrc.gov. For technical questions, contact the individual listed in the FOR FURTHER INFORMATION CONTACT section of this document.

• Mail comments to: Cindy Bladey, Chief, Rules, Announcements, and Directives Branch, Office of Administration, Mail Stop: 3WFN-06-A44M, U.S. Nuclear Regulatory Commission, Washington, DC 20555-0001.

For additional direction on accessing information and submitting comments, see “Accessing Information and Submitting Comments” in the SUPPLEMENTARY INFORMATION section of this document.

FOR FURTHER INFORMATION CONTACT: Christopher Gratton, Office of Nuclear Reactor Regulation, U.S. Nuclear Regulatory Commission, Washington, DC 20555-0001; telephone: 301-415-1055; or email: Christopher.Gratton@nrc.gov.

SUPPLEMENTARY INFORMATION:

I. Accessing Information and Submitting Comments

A. Accessing Information

Please refer to Docket ID NRC-2013-0283 when contacting the NRC about the availability of information regarding this document. You may access publically-available information by any of the following methods:

• Federal Rulemaking Web site: Go to http://www.regulations.gov and search for Docket ID NRC-2013-0283.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2013-0283 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

CR-3 began commercial operation in March 1977. On February 20, 2013, Florida Power Corporation (FPC), which was renamed DEF in October 2013, provided to the NRC its certification of permanent cessation of operations (Cert1) and permanent removal of fuel from the reactor vessel (Cert2), as required by 10 CFR 50.82(a)(1)(i) and (ii), respectively. FPC stated in its February 20, 2013, letter that it had safely shut down the reactor on September 26, 2009, and had completed the transfer all fuel from the reactor vessel to the spent fuel pool on May 28, 2011. The letter documenting the licensee's certifications may be viewed in ADAMS at Accession No. ML13056A005.

With the docketing of Cert1 and Cert2 on February 20, 2013, pursuant to 10 CFR 50.82(a)(2), the 10 CFR Part 50 facility operating license for CR-3 no longer authorizes operation of the reactor or emplacement or retention of fuel in the reactor vessel. In addition, pursuant to 10 CFR 50.51, “Continuation of license,” Subpart (b), the facility license remains in effect until the NRC notifies the licensee that the license has been terminated.

On December 2, 2013, DEF submitted the PSDAR for CR-3 in accordance with 10 CFR 50.82(a)(4)(i). The PSDAR includes a description of the planned decommissioning activities, a proposed schedule for their accomplishment, a site-specific decommissioning cost estimate, and a discussion that provides the basis for concluding that the environmental impacts associated with decommissioning activities will be bounded by appropriate, previously issued environmental impact statements.

III. Request for Comment

The NRC is requesting public comments on the PSDAR for CR-3.

Dated at Rockville, Maryland, this 22nd day of December, 2013.
For The U.S. Nuclear Regulatory Commission.
Douglas A. Broaddus,
Chief, Plant Licensing IV-2 and Decommissioning Transition Branch, Division of Operator Reactor Licensing, Office of Nuclear Reactor Regulation.

[FR Doc. 2013-31317 Filed 12-30-13; 8:45 am]

BILLING CODE 7590-01-P